DEPARTMENT OF LABOR

Proposed Information Collection Request (ICR) for the Mining Voice in the Workplace Survey; Comment Request

AGENCY: Office of the Assistant Secretary for Policy, Department of Labor.

ACTION: Notice.

SUMMARY: The Department of Labor (DOL or the Department), as part of its continuing effort to reduce paperwork and respondent burden, conducts a preclearance consultation program to provide the general public and Federal agencies with an opportunity to comment on proposed and/or continuing collections of information in accordance with the Paperwork Reduction Act of 1995 (PRA) [44 U.S.C. 3506(c)(2)(A)]. This program helps to ensure that required data can be provided in the desired format, reporting burden (time and financial resources) is minimized, collection instruments are clearly understood, and the impact of collection requirements on respondents can be properly assessed. The Department notes that a Federal agency cannot conduct or sponsor a collection of information unless it is approved by the Office of Management and Budget (OMB) under the PRA and the related materials display a currently valid OMB control number. Also, notwithstanding any other provisions of law, no person shall be subject to penalty for failing to comply with a collection of information if the related materials do not display a currently valid OMB control number. See 5 CFR 1320.5(a) and 1320.6.

A copy of the proposed ICR can be obtained by contacting the office listed below in the addressee section of this notice.

DATES: Written comments must be received by the office listed in the addressee section below on or before March 19, 2012.

ADDRESSES: Send comments to Celeste Richie, U.S. Department of Labor, Chief Evaluation Office, Office of the Assistant Secretary for Policy, 200 Constitution Avenue NW., Frances Perkins Bldg., Room S-2312, Washington, DC 20210, telephone number (202) 693-5959 (this is not a toll-free number). Email address is richie.celeste.j@dol.gov and fax number is (202) 693-5960.

SUPPLEMENTARY INFORMATION:

1. Background

The U.S. Department of Labor (DOL) is performing a pilot study to determine how to measure workers' voice in mining workplaces under the jurisdiction of DOL's Mine Safety and Health Administration (MSHA). DOL's working definition for voice in the workplace is the “workers' ability to access information on their rights in the workplace, their understanding of those rights, and their ability to exercise these rights without fear of discrimination or retaliation.” Voice in the workplace is a key outcome goal for the Secretary of Labor and part of her vision of good jobs for everyone. A separate concurrent effort will measure workers' voice in workplaces under the jurisdiction of DOL's Wage and Hour Division (WHD) and Occupational Safety and Health Administration (OSHA). Measuring voice among miners, however, poses unique data collection challenges, including implementing a survey in a setting that feels non-threatening to mine workers, and asking questions in a format that reflects mining community cultures and practices. Thus, DOL is performing a pilot study to investigate the efficacy of different data collection methods and to develop a survey instrument that is appropriate for the mining community. The primary research question is “What measures of voice and perceived non-compliance, combined with what modes of data collection, could be best used to track MSHA's worker protection outreach activity?” This submission covers a set of 2-3 small-scale pilot data collections.

Data collection for this effort will employ 2-3 strategies: (1) Submission of paper questionnaires to be filled out by individual mine workers during offsite mining-related training sessions, (2) recruitment of miners through use of radio and paper advertisements, and (3) a mail or phone survey. DOL is currently assessing the feasibility of each method prior to implementation. For example, implementation of a phone or mail survey will depend on the availability of a valid list of miners. A maximum of 125 respondents will be surveyed under each collection mode for a total of 375 maximum respondents for the overall effort.

2. Desired Focus of Comments

Currently, the Department of Labor is soliciting comments concerning the above data collection. Comments are requested which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the information collection on those who are to respond, including the use of appropriate automated, electronic, mechanical, or other technological collection techniques or other forms of information technology, e.g., permitting electronic submissions of responses.

3. Current Actions

Pursuant to the PRA implementing regulations at 5 CFR 1320.8(d)(1), this notice requests comments on the proposed information collection request discussed above in the Background section of this notice. Interested parties are encouraged to provide comments to the individual list in the ADDRESSES section above.

Agency: Office of the Assistant Secretary for Policy.

Type of Review: New Collection.

Title of Collection: Miners' Voice in the Workplace Survey.

OMB Control Number: [Insert OMB Control Number].

Affected Public: Individuals or households.

Estimated Number of Respondents: 375 (maximum 125 respondents each collection mode).

Estimated Time per Response: 12-15 minutes.

Estimated Total Annual Burden Hours: 94 (based on 375 respondents at 15 minutes each).

Estimated Total Annual Other Cost to Public: $0.

Comments submitted in response to this request will be summarized and/or included in the request for OMB approval; they will also become a matter of public record.

Signed: at Washington, DC, this 11th day of January, 2012.
Megan Uzzell,
Deputy Assistant Secretary, Office of the Assistant Secretary for Policy.

[FR Doc. 2012-941 Filed 1-18-12; 8:45 am]

BILLING CODE 4510-22-P